DEPARTMENT OF THE INTERIOR

Fish and Wildlife Service

[FWS-R8-ES-2015-N182]; [FXES11130800000-154-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before November 6, 2015.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicants

Permit No. TE-200340-2

Applicant: Andrew Hatch, South Lake Tahoe, California

The applicant requests a permit amendment to take (harass by survey, capture, handle, and release) the California tiger salamander (Santa Barbara County Distinct Population Segment (DPS) and Sonoma County DPS) (Ambystoma californiense), Sierra Nevada yellow-legged frog (Rana sierrae), and mountain yellow-legged frog (northern California DPS) (Rana muscosa) in conjunction with survey activities throughout the range of the species in California for the purpose of enhancing the species' survival.

Permit No. TE-837760

Applicant: Kendall Osborne, Riverside, California

The applicant requests a permit renewal to take (survey by pursuit) the El Segundo blue butterfly (Euphilotes battoides allyni), Quino checkerspot butterfly (Euphydryas editha quino), Palos Verdes blue butterfly (Glaucopsyche lygdamus palosverdesensis), Laguna Mountains skipper (Pyrgus ruralis lagunae), Delhi Sands flower-loving fly (Rhaphiomidas terminatus abdominalis) and take (survey by pursuit, handle, and live-capture) the Casey's June beetle (Dinacoma caseyi) in conjunction with surveys and population monitoring throughout the range of the species in California for the purpose of enhancing the species' survival.

Permit No. TE-72119B

Applicant: Seth Dallmann, San Francisco, California

The applicant requests a permit renewal to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with surveys throughout the range of the species in California for the purpose of enhancing the species' survival.

Permit No. TE-084606

Applicant: David Moskovitz, Diamond Bar, California

The applicant requests a permit renewal to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with surveys throughout the range of the species in California for the purpose of enhancing the species' survival.

Permit No. TE-67570A

Applicant: Brett Hanshew, Oakland, California

The applicant requests a permit amendment to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with surveys throughout the range of the species in California for the purpose of enhancing the species' survival.

Permit No. TE-72275B-0

Applicant: Meghan Bishop, Moraga, California

The applicant requests a new permit to take (harass by survey, capture, handle, and release) the California tiger salamander (Santa Barbara County DPS and Sonoma County DPS) (Ambystoma californiense) in conjunction with survey activities throughout the range of the species in California for the purpose of enhancing the species' survival.

Permit No. TE-820658

Applicant: William Bean, Arcata, California

The applicant requests a permit renewal to take (harass by survey, capture, handle, collect genetic samples, and release) the giant kangaroo rat (Dipodomys ingens) in conjunction with surveys, population monitoring, and research activities throughout the range of the species in California for the purpose of enhancing the species' survival.

Permit No. TE-820658

Applicant: Jason Mintzer, Fountain Valley, California

The applicant requests a new permit to take (harass by survey, capture, handle, and release) the Santa Ana sucker (Catostomus santaanae) in conjunction with survey activities throughout the range of the species in California for the purpose of enhancing the species' survival.

Permit No. TE-181713

Applicant: Cynthia Hartley, Ventura, California

The applicant requests a permit renewal to take (harass by survey, locate and monitor nests, and erect fence and nest exclosures) the western snowy plover (Pacific Coast population DPS) (Charadrius nivosus nivosus) and take (harass by survey and locate and monitor nests) the California least tern (Sternula antillarum browni) (Sterna a. browni) in conjunction with surveys and population monitoring within Ventura County, California, for the purpose of enhancing the species' survival.

Permit No. TE-45776A

Applicant: Matt Coyle, Rocklin, California

The applicant requests a permit renewal to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), vernal pool tadpole shrimp (Lepidurus packardi); and take (harass by survey, capture, handle, and release) the California tiger salamander (Santa Barbara County DPS and Sonoma County DPS) (Ambystoma californiense) in conjunction with surveys throughout the range of the species in California for the purpose of enhancing the species' survival.

Permit No. TE-022333

Applicant: USFWS, Sacramento Fish and Wildlife Office, Sacramento, California

The applicant requests a permit amendment to take (harass by survey, capture, handle, and release) the mountain yellow-legged frog (northern California DPS) (Rana muscosa) and Sierra Nevada yellow-legged frog (Rana sierrae) in conjunction with survey activities throughout the range of the species in California for the purpose of enhancing the species' survival.

Permit No. TE-72637B

Applicant: Carolynn Daman, Folsom, California

The applicant requests a new permit to take (harass by survey, capture, handle, and release) the giant kangaroo rat (Dipodomys ingens) in conjunction with survey activities throughout the range of the species in California for the purpose of enhancing the species' survival.

Permit No. TE-797267

Applicant: H.T. Harvey and Associates, Los Gatos, California

The applicant requests a permit amendment to take (harass by survey, capture, handle, mark, collect hair, and release) the salt marsh harvest mouse (Reithrodontomys raviventris) in conjunction with surveys, population monitoring, and research activities throughout the range of the species for the purpose of enhancing the species' survival.

Permit No. TE-749872-7

Applicant: David Germano, Bakersfield, California

The applicant requests a permit renewal to take (harass by survey, capture, handle, mark, and release) the Fresno kangaroo rat (Dipodomys nitratoides exilis) and giant garter snake (Thamnophis gigas); take (harass by survey, capture, handle, mark, fit with radio transmitters, and release) the giant kangaroo rat (Dipodomys ingens) and Tipton kangaroo rat (Dipodomys nitratoides nitratoides); take (harass by survey, capture, handle, and release) the blunt-nosed leopard lizard (Gambelia silus), and take (harass by survey, capture, handle, and release) the Pacific pocket mouse (Perognathus longimembris pacificus) in conjunction with surveys, population monitoring, and research activities throughout the range of the species in California for the purpose of enhancing the species' survival.

Permit No. TE-217148

Applicant: Patrick Del Pizzo, Cooper City, California

The applicant requests a permit renewal to take (harass by survey and locate and monitor nests) the California least tern (Sternula antillarum browni) (Sterna a. browni) in conjunction with surveys and population monitoring throughout the range of the species in California for the purpose of enhancing the species' survival.

Permit No. TE-60218B-0

Applicant: James Hickman, San Bernardino, California

The applicant requests a permit amendment to take (survey by pursuit) the Quino checkerspot butterfly (Euphydryas editha quino) in conjunction with survey activities throughout the range of the species in California for the purpose of enhancing the species' survival.

Permit No. TE-136973

Applicant: Judi Tamasi, Malibu, California

The applicant requests a permit renewal to take (harass by survey, capture, handle, release, collect adult vouchers, and collect branchiopod cysts) the Riverside fairy shrimp (Streptocephalus woottoni) in conjunction with the surveys within the Tierra Rejada Vernal Pool Preserve in Ventura County, California, for the purpose of enhancing the species' survival.

Permit No. TE-136973

Applicant: Richard Arnold, Pleasant Hill, California

The applicant requests a permit renewal to take (survey by pursuit, capture, handle, and release) the Behren's silverspot butterfly (Speyeria zerene behrensii), El Segundo blue butterfly (Euphilotes battoides allyni), and Lotis blue butterfly (Lycaeides argyrognomon lotis); take (survey by pursuit, capture, handle, release, and conduct habitat restoration activities for) the Zayante band-winged grasshopper (Trimerotropis infantilis); take (survey by pursuit, capture, mark, handle, release, and conduct habitat restoration activities for) the Mount Hermon June beetle (Polyphylla barbata); take (survey by pursuit, capture, hold, handle, mark, remove from the wild, rear in the laboratory, release, and collect vouchers) the Ohlone tiger beetle (Cicindela ohlone); take (survey by pursuit, capture, hold, translocate, release, and collect vouchers) the Smith's blue butterfly (Euphilotes enoptes smithi); and take (survey by pursuit) the Palos Verdes blue butterfly (Glaucopsyche lygdamus palosverdesensis) in conjunction with surveys, population monitoring, habitat restoration, and research activities throughout the range of the species in California for the purpose of enhancing the species' survival.

Permit No. TE-744878

Applicant: Institute for Wildlife Studies, Arcata, California

The applicant requests a permit amendment to take (harass by survey, locate and monitor nests, capture, handle, band, release, conduct predator control activities, collect carcasses, conduct camera monitoring, and float eggs) the California least tern (Sternula antillarum browni) (Sterna a. browni) in conjunction with surveys, population monitoring, and research activities within U.S. Marine Corps Base, Camp Pendleton, California, for the purpose of enhancing the species' survival.

Permit No. TE-74393B

Applicant: University of Nevada, Las Vegas, Nevada

The applicant requests a permit renewal to take (capture, handle, measure, hold, release) the Devils Hole pupfish (Cyprinodon diabolis), Warm Springs pupfish (Cyprinodon nevadensis pectoralis), and Ash Meadows Amargosa pupfish (Cyprinodon nevadensis mionectes) in conjunction with the research activities within the Ash Meadows National Wildlife Refuge, Nevada, for the purpose of enhancing the species' survival.

Permit No. TE-39142A

Applicant: David Kingsley, Stanford, California

The applicant requests a permit renewal to take (capture and release) the San Francisco garter snake (Thamnophis sirtalis tetrataenia) and tidewater goby (Eucyclogobius newberryi) in conjunction with the research activities within Del Norte, Humboldt, San Mateo, and Sonoma Counties, California, for the purpose of enhancing the species' survival.

Permit No. TE-053672

Applicant: Lawrence Livermore National Laboratory, Livermore, CA

The applicant requests a permit amendment to remove/reduce to possession the Amsinckia grandiflora (large-flowered fiddleneck) in conjunction with surveys, population monitoring, and implementing land management activities on the Lawrence Livermore National Laboratory, California, for the purpose of enhancing the species' survival.

Permit No. TE-018180

Applicant: Point Reyes National Seashore, Point Reyes Station, California

The applicant requests a permit renewal to remove/reduce to possession the Alopecurus aequalis var. sonomensis (Sonoma alopecurus), Lupinus tidestromii (clover lupine), Layia carnosa (beach layia), Chorizanthe valida (Sonoma spineflower), and Chorizanthe robusta var. robusta (robust spineflower) in conjunction with implementing land management strategies on Point Reyes National Seashore, California, for the purpose of enhancing the species' survival.

Permit No. TE-74753B

Applicant: Stefanie Nisich, San Luis Obispo, California

The applicant requests a new permit to take (harass by survey, capture, handle, and release) the California tiger salamander (Santa Barbara County DPS and Sonoma County DPS) (Ambystoma californiense) in conjunction with survey activities throughout the range of the species in California for the purpose of enhancing the species' survival.

Permit No. TE-161512

Applicant: Darrin Doyle, Redding, California

The applicant requests a permit renewal to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California and in Jackson County, Oregon, for the purpose of enhancing the species' survival.

Permit No. TE-74803B

Applicant: Daniel Rosie, Carlsbad, California

The applicant requests a new permit to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); and take (survey by pursuit) the Quino checkerspot butterfly (Euphydryas editha quino) in conjunction with surveys and population monitoring throughout the range of the species in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Michael Long,
Acting Regional Director, Pacific Southwest Region, Sacramento, California.

[FR Doc. 2015-25508 Filed 10-6-15; 8:45 am]

BILLING CODE 4333-15-P